DEPARTMENT OF TRANSPORTATION

Pipeline and Hazardous Materials Safety Administration

Hazardous Materials: Notice of Actions on Special Permits

AGENCY: Pipeline and Hazardous Materials Safety Administration (PHMSA), DOT.

ACTION: Notice of actions on special permit applications.

SUMMARY: In accordance with the procedures governing the application for, and the processing of, special permits from the Department of Transportation's Hazardous Material Regulations, notice is hereby given that the Office of Hazardous Materials Safety has received the application described herein.

DATES: Comments must be received on or before March 16, 2022.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Copies of the applications are available for inspection in the Records Center, East Building, PHH-13, 1200 New Jersey Avenue Southeast, Washington DC.

This notice of receipt of applications for special permit is published in accordance with part 107 of the Federal hazardous materials transportation law (49 U.S.C. 5117(b); 49 CFR 1.53(b)).

Issued in Washington, DC, on February 4, 2022.
Donald P. Burger,
Chief, General Approvals and Permits Branch.

Application No. | Applicant | Regulation(s) affected | Nature of the special permits thereof
Special Permits Data—Granted
11993-M | Key Safety Systems, Inc | 173.301(a)(1), 173.302(a)(1) | To modify the special permit to authorize a different pressure test and alternative safety control measures.
12135-M | Daicel Safety Systems Inc | 173.301(a)(1), 173.302a(a), 178.65(c)(3) | To modify the special permit to remove the flattening test requirement and authorize alternative markings.
14799-M | Joyson Safety Systems Sachsen Gmbh | 173.301(a), 173.302(a)(1) | To modify the special permit to authorize a different pressure test and alternative safety control measures.
14833-M | Joyson Safety Systems Aschaffenburg Gmbh | 178.65(f)(2), 173.301(a), 173.302(a)(2) | To modify the special permit to authorize a different pressure test and alternative safety control measures.
15372-M | Equipo Automotriz Americana, S.a. De C.v | 173.301(a)(1), 173.302(a) | To modify the special permit to authorize a different pressure test and alternative safety control measures.
15713-M | Bulk Tank International, S. De R.l. De C.v | 178.345-2, 178.346-2, 178.347-2, 178.348-2 | To modify the special permit to authorize the use of the 2017 Edition of the ASME Code.
16318-M | Technical Chemical Company | 173.304(d), 173.167(a) | To modify the special permit to authorize an additional hazardous material.
20646-M | Omni Tanker Pty. Ltd | 107.503(b), 107.503(c), 172.102(c)(3), 172.102(c)(7)(ii), 178.274(b), 178.274(c), 178.274(d) | To modify the special permit to authorize additional hazardous materials and rail freight.
21231-N | Patrick J. Kelly Drums, Inc | 173.28(b) | To authorize the recondition of UN specification metal drums that have minimum steel thicknesses below those now authorized in 49 CFR § 173.28(b)(4).
21257-N | The Procter & Gamble Company | 173.306(a)(5)(v), 173.306(a)(5)(vi) | To authorize the transportation in commerce of non-flammable, non-toxic compressed gases (Division 2.2) in DOT Specification 2S and non-DOT specification plastic aerosols not exceeding a capacity of one liter, designed and tested through an in-line pressure testing approach under a quality management system.
21274-N | Cf Industries Sales, LLC | 172.401, 172.502 | To authorize the transportation in commerce of nitric acid mixtures with nitric acid concentrations of equal to or greater than 64.5% and less than 65.0% as having a Division 5.1 subsidiary hazard.
21289-N | Chemtrade Refinery Services Inc | 173.35(e) | To authorize the transportation in commerce of IBCs containing the residue of certain hazardous materials where the closure nearest to the hazardous materials is open.
21293-N | Harnyss, LLC | 173.311 | To authorize the manufacture, mark, sale and use of a specially designed storage device consisting of a non-DOT specification cylinder similar to a DOT 3AL cylinder for use in transporting hydrogen absorbed in metal hydride, Division 2.1.
21296-N | Lockheed Martin Corporation | 173.185(a)(1) | To authorize the transportation in commerce of low production lithium batteries in alternative packaging via motor vehicle.
21303-N | Korean Air Lines Co., Ltd | 172.101(j), 173.27(b)(2), 173.27(b)(3), 175.30(a) | Authorizes the transportation in commerce of certain explosives that are forbidden for transportation by aircraft.
21305-N | Cyanco International, LLC | 180.605(e) | To authorize the use of ultrasonic thickness testing as an alternative to internal inspection for U.N. portable tanks containing sodium cyanide.
Special Permits Data—Denied
Special Permits Data—Withdrawn
21309-N | Construction Helicopters, Inc | 172.101(j), 173.27(b)(2) | To authorize the transportation in commerce of Division 1.1, 1.2, 1.3 and 1.4 explosives that are not permitted for transportation aboard cargo-only aircraft or are in quantities greater than those prescribed for transportation aboard cargo-only aircraft.
21319-N | Kavok Eir, Tov | 172.101(j), 172.204(c)(3), 173.27, 175.30(a)(1) | To authorize the transportation in commerce of forbidden explosives by cargo aircraft.

[FR Doc. 2022-03087 Filed 2-11-22; 8:45 am]

BILLING CODE P